DEPARTMENT OF TRANSPORTATION

Federal Aviation Administration

14 CFR Part 71

[Airspace Docket No. 00-ANM-34]

Revision of Class E Airspace, Greely, CO; Correction

AGENCY: Federal Aviation Administration (FAA), DOT.

ACTION: Final rule; correction.

SUMMARY: This action corrects a final rule published on February 15, 2002 (67 FR 7068), which revised the Class E airspace at Greely, CO. The final rule was published with an Airport Reference Point error in the legal description, which has made this correction necessary. This action corrects the coordinates for the airport reference point in the final rule legal description to reflect the current coordinates.

EFFECTIVE DATE: 0901 UTC, June 13, 2002.

FOR FURTHER INFORMATION CONTACT: Brian Durham, ANM-520.7, Federal Aviation Administration, Docket No. 01-ANM-05, 1601 Lind Avenue SW., Renton, Washington, 98055-4056; telephone number: (425) 227-2527.

SUPPLEMENTARY INFORMATION: On February 15, 2002, the FAA published a final rule that revised Class E airspace at Greely, CO (67 FR 7068). This action corrects the final rule airport reference point in the legal description to reflect the current coordinates.

Correction to Final Rule

Accordingly, pursuant to the authority delegated to me, the Class E airspace description at Greely, CO, as published in the Federal Register on February 15, 2002, (67 FR 7068), (Federal Register Document No. 02-3791 is corrected as follows:

§ 71.1 [Corrected]

ANM CO E5 Greely, CO [Corrected]

1. On page 7069, first column, in the airspace designation description, first line from the top of the column, correct “Lat. 40°25′43″ N., long. 104°37′58″ W.” to read “Lat. 40°26′08″ N., long. 104°37′56″ W.”.

Issued in Seattle, Washington, on March 22, 2002.
Charles E. Davis,
Acting Assistant Manager, Air Traffic Division, Northwest Mountain Region.

[FR Doc. 02-9119 Filed 4-19-02; 8:45 am]

BILLING CODE 4910-13-M